NUCLEAR REGULATORY COMMISSION

[Docket No. 030-02286]

Issuance of Environmental Assessment and Finding of No Significant Impact Regarding a Proposed License No. 24-00889-01 Amendment for Saint Luke's Hospital of Kansas City, Kansas City, MO

AGENCY: Nuclear Regulatory Commission (NRC).

ACTION: Issuance of environmental assessment and finding of no significant impact.

FOR FURTHER INFORMATION CONTACT: Gene Bonano, Health Physicist, Decommissioning Branch, Division of Nuclear Material Safety, Region III, U.S. Nuclear Regulatory Commission, 2443 Warrenville Road, Lisle, Illinois 60532; Telephone: (630) 829-9826; fax number: (630) 515-1259; e-mail: gab1@nrc.gov.

SUPPLEMENTARY INFORMATION: The Nuclear Regulatory Commission (NRC) is considering the issuance of an amendment to Material License No. 24-00889-01 to authorize Saint Luke's Hospital of Kansas City, Kansas City, Missouri (the licensee), to release from its license the Medical Plaza I Building at 4320 Wornall Road, and the Dickson-Diveley Laboratory at 4312 J.C. Nichols Parkway, Kansas City, Missouri for unrestricted use. The NRC has prepared this Environmental Assessment (EA) in support of this proposed action in accordance with the requirements of 10 CFR Part 51. Based on this EA, the NRC has determined that a Finding of No Significant Impact (FONSI) is appropriate.

I. Environmental Assessment

Identification of the Proposed Action

The proposed action would approve the licensee's request to amend its license to release the Medical Plaza I Building and the Dickson-Diveley Laboratory from its license for unrestricted use in accordance with 10 CFR part 20, subpart E. The proposed action is in accordance with the licensee's December 1, 2004 (ML052510691) and June 21, 2005 (ML052510686) request to release its Medical Plaza I Building and Dickson-Diveley Laboratory for unrestricted use. Both facilities are listed under Saint Luke's Material License Number 24-00889-01. Saint Luke's Hospital is authorized to use byproduct material for medical research. The licensee transferred all licensed material from the Medical Plaza I Building and the Dickson-Diveley Laboratory to its radioactive waste storage area in the main hospital building. The main hospital building is under the same radioactive materials license. The licensee also transferred materials to the Mayo Clinic Rochester [License No. 22-00519-03], and shipped material for disposal through Adco Services, Inc. [IL-01347-01], and GTS Duratek [R-73008-E94]. The licensee identified two isotopes, which are listed in the license, with half-lives greater than 120 days (hydrogen-3, and carbon-14), which had been used at the Medical Plaza I Building and Dickson-Diveley Laboratory facilities. The licensee conducted surveys of the facilities and provided information to the NRC to demonstrate that the radiological condition of the buildings is consistent with criteria specified in 10 CFR part 20, subpart E for unrestricted use. No radiological remediation activities are required to complete the proposed action.

Need for the Proposed Action

The licensee is requesting this license amendment because it no longer plans to conduct NRC-licensed activities at the Medical Plaza I Building and the Dickson-Diveley Laboratory. The NRC is fulfilling its responsibilities under the Atomic Energy Act to make a decision on the proposed action for decommissioning that ensures that residual radioactivity is reduced to a level that is protective of the public health and safety and the environment.

Environmental Impacts of the Proposed Action

The NRC staff reviewed the information provided and surveys performed by Saint Luke's Hospital of Kansas City to demonstrate that the release of the Medical Plaza I Building, 4320 Wornall Road, and the Dickson-Diveley Laboratory, 4312 J.C. Nichols Parkway, Kansas City, Missouri facilities comply with radiological criteria for unrestricted use in 10 CFR 20.1402. Based on its review, the staff has determined that the radiological environmental impacts from the proposed action are bounded by the “Generic Environmental Impact Statement in Support of Rulemaking on Radiological Criteria for License Termination of NRC-Licensed Nuclear Facilities” (NUREG-1496). Additionally, no non-radiological or cumulative impacts were identified. Therefore, the NRC has determined that the proposed action will not have a significant effect on the quality of the human environment.

Alternatives to the Proposed Action

The only alternative to the proposed action of releasing the facilities for unrestricted use is to take no action. Under the no-action alternative, the Medical Plaza I Building and the Dickson-Diveley Laboratory facilities would remain under an NRC license and would not be released for unrestricted use. Denial of the license amendment request would result in no change to current conditions at the facilities. The no-action alternative is not acceptable because it is inconsistent with the NRC's Timeliness Rule, 10 CFR Part 30.36, “Expiration and Termination of Licenses and Decommissioning of Sites and Separate Buildings or Outdoor Areas,” which requires licensees who have ceased licensed activities to request termination of their radioactive materials license. This alternative also would impose an unnecessary regulatory burden and limit potential benefits from future uses of the facilities.

Conclusion

The NRC staff concluded that the proposed action is consistent with the NRC's unrestricted use specified in 10 CFR part 20, subpart E. Since the proposed action will not significantly impact the quality of the human environment, the NRC staff concludes that the proposed action is the preferred alternative.

Agencies and Persons Consulted

The NRC staff has determined that the proposed action will not affect listed species or critical habitats. Therefore, no further consultation is required under Section 7 of the Endangered Species Act. Likewise, the NRC staff has determined that the proposed action is not a type of activity that has potential to cause effect on historic properties. Therefore, consultation under Section 106 of the National Historic Preservation Act is not required. The NRC consulted with the Missouri Section for Environmental Public Health, Department of Health and Senior Services. The Missouri Section for Environmental Public Health was provided with the draft EA for comment on September 6, 2005. The State reviewed the EA and responded back to the NRC on September 7, 2005, and did not have any additional comments.

II. Finding of No Significant Impact

On the basis of the EA in support of the proposed license amendment to release the facilities for unrestricted use, the NRC has determined that the proposed action will not have a significant effect on the quality of the human environment. Thus, the NRC has determined not to prepare an environmental impact statement for the proposed action.

Further Information

1. McPhee, Mark, M.D., Chief Operating Officer, Saint Luke's Hospital of Kansas City, letter to U.S. Nuclear Regulatory Commission, December 1, 2004 (ML052510691).

2. Decommissioning Report (Final Status Survey Report), Saint Luke's Hospital of Kansas City, Medical Plaza I Building, 4320 Wornall Road, and the Dickson-Diveley Laboratory, 4312 J.C. Nichols Parkway, Kansas City, Missouri facilities, June 21, 2005 (ML052510686).

3. Saint Luke's Hospital of Kansas City Conversation Record, dated September 2, 2005 (ML052510698).

4. U.S. Nuclear Regulatory Commission, “Environmental Review Guidance for Licensing Actions Associated with NMSS Programs,” NUREG-1748, August 2003.

5. U.S. Nuclear Regulatory Commission, “Generic Environmental Impact Statement in Support of Rulemaking on Radiological Criteria for License Termination of NRC-Licensed Nuclear Facilities,” NUREG-1496, August 1994.

6. NRC, NUREG-1757, “Consolidated NMSS Decommissioning Guidance,” Volumes 1-3, September 2003.

If you do not have access to ADAMS or if there are problems in accessing the documents located in ADAMS, contact the NRC Public Document Room (PDR) reference staff at (800) 397-4209, (301)415-4737 or by e-mail to pdr@nrc.gov. Documents may also be viewed electronically on the public computers located at the NRC's PDR, O 1 F21, One White Flint North, 11555 Rockville Pike, Rockville, MD 20852. The PDR reproduction contractor will copy documents for a fee.

Dated at Lisle, Illinois, this 12th day of September 2005.
Jamnes L. Cameron,
Chief, Decommissioning Branch, Division of Nuclear Materials Safety, RIII.

[FR Doc. 05-18664 Filed 9-19-05; 8:45 am]

BILLING CODE 7590-01-P